DEPARTMENT OF LABOR

Employment and Training Administration

[TA-W-52,635]

North American Battery Company, Including Leased Workers of Remedy Staffing, San Diego, CA; Notice of Termination of Investigation

Pursuant to section 221 of the Trade Act of 1974, an investigation was initiated on August 21, 2003, in response to a petition filed on behalf of workers at North American Battery Company, San Diego, California, and leased workers of Remedy Staffing, San Diego, California.

This petitioning group of workers is covered by an active certification issued on July 16, 2003 and which remains in effect (TA-W-52,140). Consequently, further investigation in this case would serve no purpose, and the investigation has been terminated.

Signed in Washington, DC, this 25th day of August, 2003.
Elliott S. Kushner,
Certifying Officer, Division of Trade Adjustment Assistance.

[FR Doc. 03-24717 Filed 9-29-03; 8:45 am]

BILLING CODE 4510-30-P